DEPARTMENT OF LABOR

Employment and Training Administration

[TA-W-52,904]

York International Corporation, York, Pennsylvania; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on October 30, 2003, applicable to workers of York International Corporation located in York, Pennsylvania. The notice was published in the Federal Register on November 28, 2003 (68 FR 66880).

At the request of the petitioner, the Department reviewed the certification for workers of the subject firm producing industrial large tonnage chillers.

The review shows that the Department inadvertently omitted its findings regarding worker group eligibility to apply for Alternative Trade Adjustment Assistance under section 246 of the Trade Act of 1974, as amended. In order for the Department to issue a certification of eligibility to apply for ATAA, the group eligibility requirements of section 246 of the Trade Act must be met. The Department determined in this case that the requirements of Section 246 were met.

A significant number of workers at the firm are age 50 or over and possess skills that are not easily transferable. Competitive conditions within the industry are adverse.

Therefore, the Department is amending the certification to include eligibility for workers of the subject firm to apply for ATAA.

The amended notice applicable to TA-W-52,904 is hereby issued as follows:

“All workers of York International Corporation, York, Pennsylvania, who became totally or partially separated from employment on or after September 9, 2002 through October 30, 2005, are eligible to apply for adjustment assistance under section 223 of the Trade Act of 1974, and are eligible to apply for alternative trade adjustment assistance under section 246 of the Trade Act of 1974, as amended.”

Signed at Washington, DC, this 2nd day of December 2003.
Linda G. Poole,
Certifying Officer, Division of Trade Adjustment Assistance.

[FR Doc. 03-31988 Filed 12-30-03; 8:45 am]

BILLING CODE 4510-30-P